DEPARTMENT OF TRANSPORTATION

Federal Aviation Administration

14 CFR Part 39

[Docket No. FAA-2008-0585; Directorate Identifier 2008-NM-027-AD; Amendment 39-15704; AD 2008-22-09]

RIN 2120-AA64

Airworthiness Directives; Boeing Model 747SP Series Airplanes

AGENCY: Federal Aviation Administration (FAA), DOT.

ACTION: Final rule.

SUMMARY: We are adopting a new airworthiness directive (AD) for all Boeing Model 747SP series airplanes. This AD requires repetitive lubrication of the rudder tab hinges and repetitive replacement of the rudder tab control rods. This AD results from reports of freeplay-induced vibration on the control surfaces on Boeing Model 727, 737, 757, and 767 airplanes. We are issuing this AD to prevent damage to the control surface structure during flight, which could result in loss of control of the airplane.

DATES: This AD is effective December 17, 2008.

The Director of the Federal Register approved the incorporation by reference of a certain publication listed in this AD as of December 17, 2008.

ADDRESSES: For service information identified in this AD, contact Boeing Commercial Airplanes, P.O. Box 3707, Seattle, Washington 98124-2207; telephone 206-544-9990; fax 206-766-5682; e-mail DDCS@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Kathleen Arrigotti, Aerospace Engineer, Airframe Branch, ANM-120S, FAA, Seattle Aircraft Certification Office, 1601 Lind Avenue, SW., Renton, Washington 98057-3356; telephone (425) 917-6426; fax (425) 917-6590.

SUPPLEMENTARY INFORMATION:

Discussion

We issued a notice of proposed rulemaking (NPRM) to amend 14 CFR part 39 to include an airworthiness directive (AD) that would apply to all Boeing Model 747SP series airplanes. That NPRM was published in the Federal Register on May 23, 2008 (73 FR 30007). That NPRM proposed to require repetitive lubrication of the rudder tab hinges and repetitive replacement of the rudder tab control rods.

Comments

We gave the public the opportunity to participate in developing this AD. We considered the comment received from the one commenter.

Request To Revise Discussion Section of NPRM

Boeing requests that we revise the Discussion section of the NPRM to remove the statement that the affected control surfaces on Boeing Model 727, 737, 757, and 767 airplanes and Boeing Model 747SP airplanes are similar in design. Boeing states that the only similarity between Model 727, 737, 757, and 767 airplanes and Model 747SP airplanes pertains to flutter-critical unbalanced control surfaces of the identified unsafe condition. Boeing requests that we revise that section of the NPRM to state: “There have been no reports of freeplay-induced vibration of the 747SP rudder tabs. However, there have been reports pertaining to flutter-critical unbalanced control surfaces on 727, 737, 757 and 767 airplanes. This lubrication and replacement will help prevent conditions which allow excessive freeplay of control surfaces.”

We agree with Boeing that the Discussion section could be clarified as Boeing specified. However, since that section of the preamble does not reappear in the final rule, no change to the final rule is necessary.

Conclusion

We reviewed the relevant data, considered the comment received, and determined that air safety and the public interest require adopting the AD as proposed.

Costs of Compliance

We estimate that this AD affects 7 airplanes of U.S. registry. The following table provides the estimated costs for U.S. operators to comply with this AD. The average labor rate is $80 per work hour.

Estimated Costs
Action | Work hours | Parts | Cost per product | Fleet cost
Lubrication | 2 | None | $160, per cycle | $1,120, per cycle.
Replacement | 16 | $39,511 | 40,791, per cycle | 285,537, per cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-22-09 Boeing: Amendment 39-15704. Docket No. FAA-2008-0585; Directorate Identifier 2008-NM-027-AD.

Effective Date

(a) This airworthiness directive (AD) is effective December 17, 2008.

Affected ADs

(b) None.

Applicability

(c) This AD applies to all Boeing Model 747SP series airplanes.

Unsafe Condition

(d) This AD results from reports of freeplay-induced vibration on the control surfaces on Boeing Model 727, 737, 757, and 767 airplanes. We are issuing this AD to prevent damage to the control surface structure during flight, which could result in loss of control of the airplane.

Compliance

(e) Comply with this AD within the compliance times specified, unless already done.

Repetitive Lubrication and Replacement

(f) At the applicable compliance time listed in Paragraph 1.E., “Compliance,” of Boeing Special Attention Service Bulletin 747-27-2447, dated January 17, 2008, lubricate the rudder tab hinges and replace the rudder tab control rods with new control rods. Repeat the lubrication and replacement thereafter at the applicable repeat interval listed in paragraph 1.E., “Compliance,” of the service bulletin. Do all actions in accordance with the Accomplishment Instructions of Boeing Special Attention Service Bulletin 747-27-2447, dated January 17, 2008. Where Boeing Special Attention Service Bulletin 747-27-2447, dated January 17, 2008, specifies a compliance time after the date on the service bulletin, this AD requires compliance within the specified compliance time after the effective date of this AD.

Alternative Methods of Compliance (AMOCs)

(g)(1) The Manager, Seattle Aircraft Certification Office (ACO), FAA, ATTN: Kathleen Arrigotti, Aerospace Engineer, Airframe Branch, ANM-120S, 1601 Lind Avenue, SW., Renton, Washington 98057-3356; telephone (425) 917-6426; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(h) You must use Boeing Special Attention Service Bulletin 747-27-2447, dated January 17, 2008, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207; telephone 206-544-9990; fax 206-766-5682; e-mail DDCS@boeing.com; Internet https://www.myboeingfleet.com.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on October 10, 2008.
Ali Bahrami,
Manager, Transport Airplane Directorate, Aircraft Certification Service.

[FR Doc. E8-25689 Filed 11-10-08; 8:45 am]

BILLING CODE 4910-13-P